ENVIRONMENTAL PROTECTION AGENCY

[EPA-HQ-OPP-2009-0879; FRL-8834-3]

Exposure Modeling Public Meeting; Notice of Public Meeting

AGENCY: Environmental Protection Agency (EPA).

ACTION: Notice.

SUMMARY: An Exposure Modeling Public Meeting (EMPM) will be held for 1 day on July 27, 2010. This notice announces the location and time for the meeting and sets forth the tentative agenda topics.

DATES: The meeting will be held on July 27, 2010, from 9 a.m. to 4 p.m. To request accommodation of a disability, please contact the person listed under FOR FURTHER INFORMATON CONTACT, preferably at least 10 days prior to the meeting, to give EPA as much time as possible to process your request.

ADDRESSES: The meeting will be held at the Environmental Protection Agency, Office of Pesticide Programs (OPP), One Potomac Yard (South Building), Fourth Floor, South Conference Room (S-4370/80), 2777 S. Crystal Drive, Arlington, VA 22202.

FOR FURTHER INFORMATION CONTACT: Chuck Peck, Environmental Fate and Effects Division (7507P), Office of Pesticide Programs, Environmental Protection Agency, 1200 Pennsylvania Ave., NW., Washington, DC 20460-0001; telephone number: (703) 347-8064; fax number: (703) 305-6309; e-mail address: peck.charles@epa.gov.

SUPPLEMENTARY INFORMATION:

I. General Information

A. Does this Action Apply to Me?

You may be potentially affected by this action if you are required to conduct testing of chemical substances under the Toxic Substances Control Act (TSCA), the Federal Food, Drug, and Cosmetic Act (FFDCA), or the Federal Insecticide, Fungicide, and Rodenticide Act (FIFRA). Since other entities may also be interested, the Agency has not attempted to describe all the specific entities that may be affected by this action.

If you have any questions regarding the applicability of this action to a particular entity, consult the person listed under FOR FURTHER INFORMATION CONTACT.

B. How Can I Get Copies of this Document and Other Related Information?

EPA has established a docket for this action under docket ID number EPA-HQ-OPP-2009-0879. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility’s telephone number is (703) 305-5805.

II. Background

On a biannual interval, an Exposure Modeling Public Meeting is held for presentation and discussion of current issues in modeling pesticide fate, transport, and exposure of risk assessment in a regulatory context. Meeting dates and abstract requests are announced through the “empmlist” forum on the LYRIS list server at https://lists.epa.gov/read/all_forums/.

III. How Can I Request to Participate in this Meeting?

You may submit a request to participate in this meeting to the person listed under FOR FURTHER INFORMATION CONTACT. Do not submit any information in your request that is considered confidential business information. Requests to participate in the meeting, identified by docket ID number EPA-HQ-OPP-2009-0879, must be received on or before July 22, 2010.

IV. Topics for the Meeting

Topics for the meeting will include presentations related to ground water modeling and pesticide modeling refinements in agricultural and urban environs. Specifically, presentations will include the following:

• Prospective groundwater monitoring studies and their utility for leaching model development.

• Design and testing of a process-based groundwater vulnerability assessment (P-GWAVA) system.

• Screening approaches for predicting pesticide concentrations in groundwater.

• Using modern watershed and cropping data for estimating percentage crop treatment.

• Comparison of models for estimating the removal of pesticides by vegetative buffer strips.

• Advances in modeling urban/residential pesticide runoff.

• Spray drift exposure refinements for salmonid off-channel habitat.

• Mechanistic ground spray boom drift model development.

• Spatially-distributed watershed models for chemical exposure assessments.

List of Subjects

Environmental protection, Modeling, Monitoring, Pesticides.

Dated: June 28, 2010.
Donald J. Brady,
Director, Environmental Fate and Effects Division, Office of Pesticide Programs.

[FR Doc. 2010-16323 Filed 7-6-10; 8:45 am]

BILLING CODE 6560-50-S